NUCLEAR REGULATORY COMMISSION

[Docket Nos. 50-438 and 50-439; NRC-2023-0178]

Nuclear Development, LLC; Tennessee Valley Authority; Bellefonte Nuclear Plant, Units 1 and 2; Construction Permit Transfer Application; Withdrawal by Applicant

AGENCY: Nuclear Regulatory Commission.

ACTION: Notice.

SUMMARY: The U.S. Nuclear Regulatory Commission (NRC) has granted the request of Nuclear Development, LLC (ND) to withdraw its application, dated November 13, 2018, to transfer the construction permits (CPs) for Bellefonte Nuclear Plant (BLN), Units 1 and 2 (Construction Permit Nos. CPPR-122 and CPPR-123, respectively). ND had requested that the NRC consent to the transfer of the BLN CPs from Tennessee Valley Authority (TVA) to ND. The CPs for BLN, Units 1 and 2, expired on October 1, 2021.

DATES: The effective date of the withdrawal of the construction permit transfer application is October 6, 2023.

ADDRESSES: Please refer to Docket ID NRC-2023-0178 when contacting the NRC about the availability of information regarding this document. You may obtain publicly available information related to this document using any of the following methods:

• Federal Rulemaking Website: Go to http://www.regulations.gov and search for Docket ID NRC-2023-0178. Address questions about Docket IDs to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

FOR FURTHER INFORMATION CONTACT: Omid Tabatabai, Office of Nuclear Reactor Regulation, U.S. Nuclear Regulatory Commission, Washington, DC 20555-0001; telephone: 301-415-6616; email: Omid.Tabatabai@nrc.gov.

SUPPLEMENTARY INFORMATION: By letter dated November 13, 2018 (ADAMS Accession No. ML18318A428), ND submitted an application requesting that the NRC consent to the transfer of the CPs for the BLN, Units 1 and 2 from the TVA to ND. In its application, ND also requested that the NRC issue conforming administrative amendments and amend the CPs to reflect the revised completion dates discussed in the application. On November 5, 2019, the NRC staff accepted and docketed ND's application for detailed review (ADAMS Accession No. ML19298A194).

The NRC previously issued a Notice of Consideration of Approval of Transfer of Construction Permits and Conforming Amendment, and Opportunity to Comment, Request a Hearing, and Petition for Leave to Intervene in the Federal Register on November 21, 2019 (84 FR 64355). However, by letter dated August 28, 2023 (ADAMS Accession No. ML23263A100), ND requested that the NRC withdraw ND's application.

Dated: October 10, 2023.
For the Nuclear Regulatory Commission.
Omid Tabatabai-Yazdi,
Senior Project Manager, New Reactor Licensing Branch, Division of New and Renewed Licenses, Office of Nuclear Reactor Regulation.

[FR Doc. 2023-22657 Filed 10-12-23; 8:45 am]

BILLING CODE 7590-01-P